DEPARTMENT OF AGRICULTURE

Food and Nutrition Service

Request for Information: WIC National Universal Product Code Database Next Steps

AGENCY: Food and Nutrition Service (FNS), USDA.

ACTION: Notice; Reopening of Comment Period.

SUMMARY: The U.S. Department of Agriculture (USDA), Food and Nutrition Service (FNS), Special Supplemental Nutrition Program for Women, Infants and Children (WIC Program or WIC) is issuing this Request for Information to obtain input from WIC State agencies, authorized vendors, food manufacturers, technology partners, and other interested stakeholders regarding the direction of the National Universal Product Code (NUPC) database. The NUPC database can be used by WIC State agencies delivering benefits via Electronic Benefit Transfer (EBT) to develop, update and maintain their Authorized Product Lists (APLs). FNS is specifically interested in obtaining stakeholder perspectives on the role of the NUPC database to the program community, and different options for operating, maintaining, and/or enhancing the database. FNS welcomes comments from all interested stakeholders.

As a background, on January 30, 2020, FNS issued the initial Request for Information, beginning a 60-day public comment period. Public involvement opportunities including public meetings, are now being modified based on considerations for employee and public health and safety. We recognize that there is a need to reopen the comment period to accommodate meaningful public involvement. FNS is reopening the comment period to provide additional time for interested parties to review this Request for Information.

DATES: The comment period for the Request for Information that was published on January 30, 2020 (82 FR 5368) ended March 30, 2020. To be assured of consideration, comments must be received on or before May 18, 2020.

ADDRESSES: Comments are accepted through the Federal eRulemaking Portal. Go to http://www.regulations.gov, and follow the online instructions for submitting comments electronically. Comments may also be submitted via email to Dana.Rasmussen@USDA.gov. Please enter “NUPC Database Public Comment” in the subject line to the email.

FOR FURTHER INFORMATION CONTACT: Dana Rasmussen, Senior Technical Advisor, Supplemental Food Programs Division, at (703) 305-1628.

SUPPLEMENTARY INFORMATION: The WIC Program, authorized under the Child Nutrition Act of 1966, as amended (P.L. 89-642), provides low-income pregnant, breastfeeding, and postpartum women, infants, and children up to age five with nutritious supplemental foods, nutrition education, including breastfeeding promotion and support, and referrals to health and social services. The program is administered by USDA FNS. FNS provides grant funds which are used by WIC State agencies to operate the WIC Program and distribute benefits through local WIC clinics. The program operates throughout the 50 States, the District of Columbia, Guam, Puerto Rico, American Samoa, the Commonwealth of the Northern Mariana Islands, the U.S. Virgin Islands, and through 33 Indian Tribal Organizations.

The Healthy, Hunger-Free Kids Act of 2010 (HHFKA, P.L. 111-296) requires all WIC State agencies to implement EBT systems by October 1, 2020, or seek an exemption. To implement EBT, some State agencies must update their management information systems to issue benefits via EBT and must ensure the necessary EBT infrastructure is in place for clinics and vendors. To date, over half of all WIC State agencies have implemented EBT statewide, with the remaining State agencies engaged in the EBT planning and implementation processes pursuant to the statutory mandate.

Section 352(e) of the HHFKA directed the Secretary of Agriculture to establish an NUPC database for use by all WIC State agencies in implementing EBT. HHFKA provides $1 million each fiscal year, to remain available until expended, for NUPC database development, hosting, hardware and software configuration, and database support. Program regulations at 7 CFR 246.12(cc) require WIC State agencies with EBT to use the NUPC database. The NUPC database is intended to be used by WIC State agencies with EBT as a tool to help create and manage their APLs. Only State agencies have access to the NUPC database. The database provides a source of information about WIC-authorized foods which other State agencies may use in creating their APLs.

Each WIC State agency is responsible for developing a list of food items available for WIC participants for purchase consistent with Program requirements defined in 7 CFR 246.10. WIC State agencies determine the types, brands, and physical forms of WIC-eligible foods. State agencies may also consider State-specific nutrition criteria (e.g., only low sodium canned vegetables), packaging methods (e.g., pouch, can, jar) and packaging sizes (e.g., single container, multi-pack case).

For WIC State agencies using EBT, the State agency-approved foods are set forth on an electronic APL, which lists the WIC food item, food category, size, Universal Product Code (UPC), and other technical details. The APL is unique to each State agency. There is no Federal or national APL.

WIC State agencies update their APLs on a regular basis. Consistent with 7 CFR 246.12 and per WIC EBT operating rules, WIC-authorized vendors are required to retrieve a State agency's APL and apply it to their cash register systems at least every 48 hours, but most do so on a nightly basis.

WIC State agencies send a copy of their individual APLs to the NUPC database. After passing a screening and once additional nutritional product information is gathered, the individual products on the State agency's APL are added to the NUPC database. A State agency's raw APL file is not available for download via the NUPC database.

The NUPC database currently includes but is not limited to the following information by food item from WIC EBT State agencies, as applicable: UPC or Price Lookup Code (PLU), the latter for fresh fruits and vegetables; product category (e.g., Bread/Whole Grains) and subcategory (e.g., 100% Whole Wheat); nutrition information and ingredients; package images including product labels; the manufacturer name; manufacturer data sheets when needed; and the State agency authorizing the product. An optional free form comments field is available to State agencies. For fresh fruits and vegetables, a State agency may submit PLUs or UPCs. Appendix A lists current NUPC database elements.

WIC State agencies may optionally choose to submit pricing data into the NUPC database, but this data is for individual State agency use only. Most State agencies do not enter pricing data, due to the significant effort required to enter and maintain it given pricing fluctuations, coupled with the limited benefit of use. Most prices are sensitive to local market conditions.

A WIC State agency can use the NUPC database to obtain product information helpful in developing or modifying its APL. The NUPC database reduces the need to separately gather this same information from manufacturers, food retailers, food distributors or industry food databases.

NUPC does not: (1) represent a complete/combined listing of all State-specific APLs, but rather contains individual APL-related data submitted by WIC EBT States (and supplemented with other nutrition-related information); (2) set forth a Federal or national WIC APL; or (3) include up-to-date pricing information.

The original intent of the NUPC database was to support statewide implementation of EBT. As more WIC State agencies achieve statewide EBT, FNS seeks input regarding the use of the NUPC database by the program community and different options for operating, maintaining, and/or enhancing the database. FNS poses the questions below to prompt stakeholder responses.

USDA FNS is seeking information from stakeholders on the following questions:

1. For WIC State agency input only, is the current NUPC database useful in its current form in creating and managing APLs and implementing EBT? Please explain.

2. Within HHFKA statutory requirements, should USDA FNS re-envision its approach to the NUPC database to the benefit of program stakeholders? Please explain.

3. Given currently available NUPC database information, what are the advantages and disadvantages of providing NUPC database access to, or sharing WIC State agency NUPC-related information with, other entities such as food manufacturers and/or WIC authorized vendors?

4. Although current statute requires USDA to operate an NUPC database for use by WIC EBT States, do WIC State agencies prefer to create and manage their APLs without the use of the Federal NUPC database? Please explain.

FNS appreciates your thoughtful and responsive replies to all questions. Your feedback is essential to help FNS ensure administration of the WIC Program is effective and efficient as possible. Together, we can strive to improve operations and outcomes to best serve participants, stakeholders, and American taxpayers.

Pamilyn Miller,
Administrator, Food and Nutrition Service.

Appendix A:

Current NUPC Database Elements

1. National UPC Database Core Fields

The Core Fields contain information that is set on the National level and cannot be edited at the WIC State Agency level. Only FNS staff or the FNS contractor may edit these fields.

National Core Fields

UPC/PLU Number

Manufacturer Code

Manufacturer Name

[Food] Category

[Food] Subcategory

Default Filtered

Comments

2. WIC State Agency Fields, including Editable Fields

These fields are generally specific to each WIC State Agency and can only be edited by that State agency. Some of these fields (Product Size through Benefit Unit Description Type) may be adopted from a national entry or an entry by another State agency and then edited to reflect current State-specific authorized foods. These fields generally do not have any national attributes—they are specific to each State agency. The only State agency field that cannot be edited by the WIC State agency is the Product Unit of Measure (UOM). Most fields, e.g., price, are optional.

WIC State Agency Fields

Product Size

Product UOM *

Product Name

Benefit Unit Description Type

Short Product Name

Benefit Unit Description

Container Size

Container Type

Price

Price Type

Broadband Flag

Agency Effective Date

Agency End Date

Package Size

Rebate Flag

Manual Voucher Indicator

Filter for State Agency Search

* Cannot be edited by State agency

[FR Doc. 2020-08041 Filed 4-15-20; 8:45 am]

BILLING CODE 3410-30-P